FEDERAL DEPOSIT INSURANCE CORPORATION

Sunshine Act Meetings; Correction

AGENCY: Federal Deposit Insurance Corporation.

ACTION: Notice; correction.

SUMMARY: The Federal Deposit Insurance Corporation is correcting a notice published in the Federal Register on October 11, 2024. This document, noticing a closed meeting held on October 8, 2024, contained an incorrect report of the vote regarding the closing of the meeting.

SUPPLEMENTARY INFORMATION: In the Federal Register of Friday, October 11, 2024, in FR Doc. 2024-23688, on page 82608 in the second column, correct the text “vote of Chairman Martin J. Gruenberg, Vice Chairman Travis Hill, Director Jonathan McKernan, Director Michael J. Hsu (Acting Comptroller of the Currency), and Director Rohit Chopra (Director, Consumer Financial Protection Bureau)” to read: “vote of Chairman Martin J. Gruenberg, Vice Chairman Travis Hill, Director Jonathan McKernan, and Director Rohit Chopra (Director, Consumer Financial Protection Bureau)”.

FOR FURTHER INFORMATION CONTACT: Debra A. Decker, Executive Secretary, at 202-898-8748.

Dated: November 18, 2024.
Federal Deposit Insurance Corporation.
James P. Sheesley,
Assistant Executive Secretary.

[FR Doc. 2024-27312 Filed 11-18-24; 4:15 pm]

BILLING CODE 6714-01-P